SMALL BUSINESS ADMINISTRATION

[Declaration of Disaster #3341]

State of Minnesota; Amendment #3

In accordance with a notice received from the Federal Emergency Management Agency, dated June 19, 2001, the above-numbered Declaration is hereby amended to reopen the incident period for this disaster as beginning on March 23, 2001 and continuing.

All other information remains the same, i.e., the deadline for filing applications for physical damage is July 15, 2001 and for economic injury the deadline is February 15, 2002.

(Catalog of Federal Domestic Assistance Program Nos. 59002 and 59008)
Dated: June 21, 2001.
Herbert L. Mitchell,
Associate Administrator for Disaster Assistance.

[FR Doc. 01-16283 Filed 6-27-01; 8:45 am]

BILLING CODE 8025-01-P